DEPARTMENT OF HEALTH AND HUMAN SERVICES

National Institutes of Health

Center for Scientific Review; Amended Notice of Meeting

Notice is hereby given of a change in the meeting of the Molecular Genetics B Study Section, October 2, 2008, 8 a.m. to October 3, 2008, 4 p.m., Admiral Fell Inn, 888 South Broadway, Baltimore, MD, 21231 which was published in the Federal Register on August 21, 2008, 73 FR 49465-49467.

The meeting will be held October 1, 2008 to October 2, 2008. The meeting time and location remain the same.

The meeting is closed to the public.

Dated: August 28, 2008.
Jennifer Spaeth,
Director, Office of Federal Advisory Committee Policy.

[FR Doc. E8-20641 Filed 9-8-08; 8:45 am]

BILLING CODE 4140-01-M